DEPARTMENT OF COMMERCE

International Trade Administration

[A-580-870]

Certain Oil Country Tubular Goods From the Republic of Korea: Final Results of Antidumping Duty Administrative Review and Final Determination of No Shipments; 2021-2022

AGENCY: Enforcement and Compliance, International Trade Administration, Department of Commerce.

SUMMARY: The U.S. Department of Commerce (Commerce) determines that certain producers/exporters subject to this review made sales of oil country tubular goods (OCTG) from the Republic of Korea (Korea) at less than normal value (NV) during the period of review (POR) September 1, 2021, through August 31, 2022, and that HiSteel Co., Ltd. (HiSteel) had no shipments of subject merchandise to the United States during the POR.

DATES: Applicable April 8, 2024.

FOR FURTHER INFORMATION CONTACT: Mark Flessner or Mike Heaney, AD/CVD Operations, Office VI, Enforcement and Compliance, International Trade Administration, U.S. Department of Commerce, 1401 Constitution Avenue NW, Washington, DC 20230; telephone: (202) 482-6312 or (202) 482-4475, respectively.

SUPPLEMENTARY INFORMATION:

Background

On October 5, 2023, Commerce published the Preliminary Results.¹ We invited interested parties to comment on the Preliminary Results. Between November 6 and 13, 2023, Commerce received timely filed case and rebuttal briefs from various interested parties.² On December 13, 2023, we extended the deadline for issuing the final results of this administrative review, until April 2, 2024.³ These final results cover 16 companies.⁴ Commerce conducted this review in accordance with section 751(a) of the Tariff Act of 1930, as amended (the Act).

¹ See Certain Oil Country Tubular Goods from the Republic of Korea: Preliminary Results of Antidumping Duty Administrative Review and Preliminary Determination of No Shipments; 2021-2022, 88 FR 69118 (October 5, 2023) (Preliminary Results), and accompanying Preliminary Decision Memorandum.

² See Vallourec Star L.P. and Welded Tube USA's (collectively, the domestic interested parties) Letter, “Case Brief,” dated November 6, 2023; SeAH Steel Corporation (SeAH)'s Letter, “Case Brief,” dated November 6, 2023; NEXTEEL Co., Ltd. (NEXTEEL)'s Letter, “Letter in Lieu of Case Brief,” dated November 6, 2023; Domestic Interested Parties' Letter, “Rebuttal Brief,” dated November 13, 2023; and SeAH's Letter, “Rebuttal Brief,” dated November 13, 2023; and Husteel Co., Ltd. (Husteel)'s Letter, “Letter in Lieu of Rebuttal Brief,” dated November 13, 2023.

³ See Memorandum, “Extension of Deadline for Final Results of Antidumping Duty Administrative Review, 2021-2022,” dated December 13, 2023.

⁴ See Initiation of Antidumping and Countervailing Duty Administrative Reviews, 87 FR 66275 (November 3, 2022). The 16 companies consist of two mandatory respondents, 13 companies not individually examined, and one company that had no shipments.

For a complete description of the events that followed the Preliminary Results of this administrative review, see the Issues and Decision Memorandum.⁵ The Issues and Decision Memorandum is a public document and is on file electronically via Enforcement and Compliance's Antidumping and Countervailing Duty Centralized Electronic Service System (ACCESS). ACCESS is available to registered users at https://access.trade.gov. Additionally, a complete version of the Issues and Decision Memorandum can be accessed at https://access.trade.gov/public/FRNoticesListLayout.aspx.

⁵ See Memorandum, “Issues and Decision Memorandum for the Final Results of the 2021-2022 Administrative Review of the Antidumping Duty Order on Certain Oil Country Tubular Goods from the Republic of Korea,” dated concurrently with, and hereby adopted by, this notice (Issues and Decision Memorandum).

Scope of the Order ⁶

⁶ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

The merchandise covered by the Order is certain OCTG. For a complete description of the scope of the Order, see the Issues and Decision Memorandum.

Analysis of Comments Received

All issues raised in the case and rebuttal briefs that were submitted by parties in this review are addressed in the Issues and Decision Memorandum and listed in the appendix to this notice.

Changes Since the Preliminary Results

Based on our analysis of the comments received, we made no changes to the Preliminary Results.

Final Determination of No Shipments

In the Preliminary Results, Commerce found that HiSteel did not have shipments of subject merchandise to the United States during the POR. No parties commented on this determination. Accordingly, for the final results of review, we continue to find that HiSteel made no shipments of subject merchandise to the United States during the POR. Consistent with Commerce's practice,⁷ we intend to instruct U.S. Customs and Border Protection (CBP) to liquidate any existing entries of subject merchandise produced by HiSteel, but exported by other parties, at the rate for the intermediate reseller, if available, or at the all-others rate of 5.24 percent.⁸

⁷ See, e.g., Certain Corrosion-Resistant Steel Products from Taiwan: Final Results of the Antidumping Duty Administrative Review and Final Determination of No Shipments; 2018-2019, 86 FR 28554 (May 27, 2021).

⁸ See Certain Oil Country Tubular Goods from the Republic of Korea: Notice of Court Decision Not in Harmony with Final Determination, 81 FR 59603 (August 30, 2016).

Final Results of Review

For these final results, Commerce determines that the following weighted-average dumping margins exist for the period September 1, 2021, through August 31, 2022:

⁹ See Appendix II for a full list of these companies.

Producer/exporter | Weighted- average dumping margin (percent)
Hyundai Steel Company | 0.00
SeAH Steel Corporation | 1.18
Non-examined companies ⁹ | 1.18

Rate for Non-Examined Companies

For the rate for non-selected respondents in an administrative review, generally, Commerce looks to section 735(c)(5) of the Act, which provides instructions for calculating the all-others rate in a market economy investigation, for guidance. Under section 735(c)(5)(A) of the Act, the all-others rate is normally “an amount equal to the weighted-average of the estimated weighted-average dumping margins established for exporters and producers individually investigated, excluding any zero or de minimis margins, and any margins determined entirely {on the basis of facts available}.” For these final results, we calculated a dumping margin of 1.18 percent for SeAH and a zero dumping margin for Hyundai Steel Company, the mandatory respondents in this review. Consistent with our normal methodology, we have assigned to the companies not individually examined (see Appendix II for a full list of these companies) a margin of 1.18 percent, which is the margin calculated for SeAH.

Disclosure

Because no changes were made to the Preliminary Results, no disclosure of calculations is necessary for these final results.

Assessment

Pursuant to section 751(a)(2)(C) of the Act and 19 CFR 351.212(b), Commerce shall determine, and CBP shall assess, antidumping duties on all appropriate entries of subject merchandise in accordance with the final results of this review.

Where the respondent reported reliable entered values, we calculated importer- (or customer-) specific ad valorem rates by aggregating the dumping margins calculated for all U.S. sales to each importer (or customer) and dividing this amount by the total entered value of the sales to each importer (or customer).¹⁰ Where Commerce calculated a weighted-average dumping margin by dividing the total amount of dumping for reviewed sales to that party by the total sales quantity associated with those transactions, Commerce will direct CBP to assess importer- (or customer-) specific assessment rates based on the resulting per-unit rates.¹¹ Where an importer- (or customer-) specific ad valorem or per-unit rate is greater than de minimis (i.e., 0.50 percent), Commerce will instruct CBP to collect the appropriate duties at the time of liquidation.¹² Where an importer- (or customer-) specific ad valorem or per-unit rate is zero or de minimis, Commerce will instruct CBP to liquidate appropriate entries without regard to antidumping duties.¹³

¹⁰ See 19 CFR 351.212(b)(1).

¹¹ Id.

¹² Id.

¹³ See 19 CFR 351.106(c)(2).

For the companies which were not selected for individual review, we will assign an assessment rate based on the methodology described in the “Rates for Non-Examined Companies” section, above.

Consistent with Commerce's assessment practice, for entries of subject merchandise during the POR produced by Hyundai Steel Company, SeAH, or the non-examined companies for which the producer did not know that its merchandise was destined for the United States, we will instruct CBP to liquidate unreviewed entries at the all-others rate established in the original less-than-fair-value (LTFV) investigation (i.e., 5.24 percent) ¹⁴ if there is no rate for the intermediate company(ies) involved in the transaction.¹⁵

¹⁴ See Certain Oil Country Tubular Goods from the Republic of Korea: Notice of Court Decision Not in Harmony with Final Determination, 81 FR 59603, 59604 (August 30, 2016) (OCTG Korea Timken Notice).

¹⁵ For a full discussion of this practice, see Antidumping and Countervailing Duty Proceedings: Assessment of Antidumping Duties, 68 FR 23954 (May 6, 2003).

Commerce intends to issue assessment instructions to CBP no earlier than 35 days after the date of publication of the final results of this review in the Federal Register.¹⁶ If a timely summons is filed at the U.S. Court of International Trade, the assessment instructions will direct CBP not to liquidate relevant entries until the time for parties to file a request for a statutory injunction has expired (i.e., within 90 days of publication).

¹⁶ See Notice of Discontinuation Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the publication date of the final results of this administrative review, as provided for by section 751(a)(2)(C) of the Act: (1) the cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review, a prior review, or the original LTFV investigation, but the producer is, the cash deposit rate will be the rate established for the most recently completed segment of this proceeding for the producer of the subject merchandise; and (4) the cash deposit rate for all other producers or exporters will continue to be 5.24 percent,¹⁷ the all-others rate established in the LTFV investigation. These cash deposit requirements, when imposed, shall remain in effect until further notice.

¹⁷ See OCTG Korea Timken Notice, 81 FR at 59604.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This administrative review and notice are issued and published in accordance with sections 751(a)(1) and 777(i)(1) of the Act, and 19 CFR 351.213(h) and 19 CFR 351.221(b)(5).

Dated: April 2, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Final Determination of No Shipments

V. Changes Since the Preliminary Results

VI. Rate for Non-Examined Companies

VII. Discussion of the Issues

Comment 1: Constructed Value (CV) Profit and Selling Expenses

Comment 2: CV Profit Cap

Comment 3: Constructed Export Price (CEP) Offset

Comment 4: Differential Pricing Analysis

Comment 5: Inconsistencies in the “Region” Parameters for Differential Pricing Analysis

VIII. Recommendation

Appendix II

List of Companies Not Individually Examined

1. AJU Besteel Co., Ltd.

2. Dong-A Steel Co., Ltd.

3. Husteel Co., Ltd.

4. ILJIN Steel Corporation

5. K Steel Corporation

6. Keonwoo Metals Co., Ltd.

7. Kukje Steel

8. MSTEEL Co., Ltd.

9. NEXTEEL Co., Ltd.

10. Nissei Trading Co., Ltd.

11. POSCO International Corporation

12. Sungwon Steel Co., Ltd.

13. TGS Pipe

[FR Doc. 2024-07409 Filed 4-5-24; 8:45 am]

BILLING CODE 3510-DS-P